DEPARTMENT OF THE TREASURY

Office of Thrift Supervision

[AC-8: OTS Nos. H-3881 and 05031]

Atlantic Liberty Savings, F.A., Brooklyn, NY; Approval of Conversion Application

Notice is hereby given that on, August 12, 2002, the Director, Examination Policy, Office of Thrift Supervision (“OTS”), or her designee, acting pursuant to delegated authority, approved the application of Atlantic Liberty Savings, F.A., Brooklyn, New York, to convert to the stock form of organization. Copies of the application are available for inspection by appointment (phone number: 202-906-5922 or e-mail Public.Info@OTS.Treas.gov) at the Public Reading Room, OTS, 1700 G Street, NW., Washington, DC 20552, and the OTS Northeast Regional Office, 10 Exchange Place, 18th Floor, Jersey City, New Jersey 07302.

Dated: August 21, 2002.
By the Office of Thrift Supervision.
Nadine Y. Washington,
Corporate Secretary.

[FR Doc. 02-21642 Filed 8-23-02; 8:45 am]

BILLING CODE 6720-02-M